ARCHITECTURAL AND TRANSPORTATION BARRIERS COMPLIANCE BOARD

36 CFR Parts 1190 and 1191

[Docket No. 02-1]

RIN 3014-AA26

Americans With Disabilities Act (ADA) Accessibility Guidelines for Buildings and Facilities; Architectural Barriers Act (ABA) Accessibility Guidelines; Public Rights-of-Way

AGENCY: Architectural and Transportation Barriers Compliance Board.

ACTION: Notice of availability of draft guidelines.

SUMMARY: The Architectural and Transportation Barriers Compliance Board (Access Board) has placed in the docket and on its Web site for public review draft guidelines which address accessibility in the public right-of-way. The draft guidelines are under consideration by the Board. The purpose of placing the draft guidelines in the docket is to facilitate gathering of additional information for the regulatory assessment and the preparation of technical assistance materials to accompany a future rule. The Board is not seeking comments on the draft guidelines. The Board will issue a notice of proposed rulemaking at a future date and will solicit comments at that time, prior to issuing a final rule.

FOR FURTHER INFORMATION CONTACT: Scott Windley, Office of Technical and Information Services, Architectural and Transportation Barriers Compliance Board, 1331 F Street, NW., suite 1000, Washington, DC 20004-1111. Telephone number (202) 272-0025 (voice); (202) 272-0082 (TTY). Electronic mail address: windley@access-board.gov.

SUPPLEMENTARY INFORMATION: In 1999, the Architectural and Transportation Barriers Compliance Board (Access Board) established the Public Rights-of-Way Access Advisory Committee (Committee) to make recommendations on accessibility guidelines for newly constructed and altered public rights-of-way covered by the Americans with Disabilities Act of 1990 and the Architectural Barriers Act of 1968. The Committee was comprised of representatives from disability organizations, public works departments, transportation and traffic engineering groups, design professionals and civil engineers, pedestrian and bicycle organizations, Federal agencies, and standard-setting bodies. The Committee met on five occasions between December 1999 and January 2001. On January 10, 2001, the Committee presented its recommendations on accessible public rights-of-way in a report entitled “Building a True Community.” The Committee's report provided recommendations on access to sidewalks, street crossings, and other related pedestrian facilities and addressed various issues and design constraints specific to public rights-of-way. The report is available on the Access Board's Web site at http://www.access-board.gov/prowac/commrept/index.htm or can be ordered by calling the Access Board at (202) 272-0080. Persons using a TTY should call (202) 272-0082. The report is available in alternate formats upon request. Persons who want a copy in an alternate format should specify the type of format (cassette tape, braille, large print, or ASCII disk).

The Access Board convened an ad hoc committee of Board members to review the Committee's recommendations. After reviewing the report in detail, the Board's ad hoc committee prepared recommendations for guidelines addressing accessibility in the public right-of-way. On June 17, 2002, the Board made the recommendations of the ad hoc committee available for public comment and review by notice in the Federal Register (67 FR 41206).

Over 1,400 comments were received from the public in response to the publication of the draft. Of this total, almost 900 comments were from persons with disabilities and groups representing them; the great preponderance of comments in this category came from people who indicated that they were blind or had low vision. Respondents from the transportation industry, including design engineers and consultants, submitted slightly over 200 comments. Another 100 were received from State and local government administrative agencies. Comments are posted on the Board's Web site at http://www.access-board.gov/prowac/comments/index.htm. Further discussion of the comments received is available in the supplementary information accompanying the draft guidelines.

The members of the Board's ad hoc committee subsequently reviewed and considered the comments received in response to the 2002 Federal Register notice. The draft guidelines made available today on the Board's Web site are the result of those deliberations. The Access Board is making the draft guidelines available in order to facilitate the gathering of additional information for a regulatory assessment prior to publishing a notice of proposed rulemaking and to assist in the development of technical assistance materials. The Board is not soliciting comments on the draft guidelines. The Board will solicit comments when a proposed rule is issued in conjunction with the regulatory assessment. The draft guidelines along with supplementary information have been placed in the rulemaking docket (Docket No. 02-1) for public review. The draft guidelines and supplementary information are also available on the Access Board's Web site at http://www.access-board.gov/prowac/draft.htm. You may also obtain a copy of the draft guidelines and supplementary information by contacting the Access Board at (202) 272-0080. Persons using a TTY should call (202) 272-0082. The documents are available in alternate formats upon request. Persons who want a copy in an alternate format should specify the type of format (cassette tape, braille, large print, or ASCII disk).

Lawrence W. Roffee,
Executive Director.

[FR Doc. 05-23161 Filed 11-22-05; 8:45 am]

BILLING CODE 8150-01-P